DEPARTMENT OF TRANSPORTATION

Federal Aviation Administration

14 CFR Part 71

[Docket No. FAA-2005-21907; Airspace Docket No. 05-ANM-11]

RIN 2120-AA66

Revocation of Compulsory Reporting Point; MT

AGENCY: Federal Aviation Administration (FAA), DOT.

ACTION: Final rule.

SUMMARY: This action revokes the GARRI Intersection as a compulsory reporting point. GARRI Intersection is located between the de-commissioned Drummond, MT Very High Frequency Omni-directional Range/Tactical Air Navigation (VORTAC) and Butte, MT. The FAA has determined that this intersection is no longer needed in the National Airspace System (NAS).

EFFECTIVE DATE: 0901 UTC, September 1, 2005.

FOR FURTHER INFORMATION CONTACT: Ken McElroy, Airspace and Rules, Office of System Operations and Safety, Federal Aviation Administration, 800 Independence Avenue, SW., Washington, DC 20591; telephone: (202) 267-8783.

SUPPLEMENTARY INFORMATION:

Background

The Drummond Very High Frequency Omni-directional Range (VOR) has been out of service since April 2003, for the reasons discussed below, and the site on which the VOR was located was leased land. In 2002, the FAA learned that the landowner had constructed a house within 1,000 feet of the VOR without providing proper notice to the FAA. The VOR was temporarily taken out of service until the impacts of the house could be identified. A subsequent flight check of the VOR indicated that the house did not cause a problem; however, large vehicles parked near the VOR facility were interfering with the integrity of the signal. As such, the GARRI Intersection as a compulsory has been NOTAMed out of service. Additionally, subsequent to this NOTAM action the Drummond VOR was decommissioned on January 13, 2004.

The Rule

This action amends Title 14 Code of Federal Regulations (14 CFR) part 71 by revoking GARRI Intersection as a compulsory reporting point. GARRI Intersection is located between the de-commissioned Drummond, MT VORTAC and Butte, MT. The FAA has determined this intersection is no longer needed to support the NAS. This action improves air safety and aids air traffic management.

Domestic Low Altitude Reporting Points are published in paragraph 7001 of FAA Order 7400.9M dated August 30, 2004, and effective September 16, 2004, which is incorporated by reference in 14 CFR 71.1. The Low Altitude Reporting Points listed in this document will be removed subsequently in the order.

The FAA has determined that this regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9M, Airspace Designations and Reporting Points, dated August 30, 2004, and effective September 16, 2004, is amended as follows:

Paragraph 7001 Domestic Low Altitude Reporting Points.

* * * * *

7001 [Revoked]

GARRI:

INT Drummond, MT, 092° Butte, MT, 002° radials

* * * * *

Issued in Washington, DC, July 22, 2005.
Edith V. Parish,
Acting Manager, Airspace and Rules.

[FR Doc. 05-14973 Filed 7-28-05; 8:45 am]

BILLING CODE 4910-13-P